CIVIL RIGHTS COLD CASE RECORDS REVIEW BOARD

[Agency Docket Number: CRCCRRB-2025-0015-N]

Notice of Formal Determination on Records Release

Correction

In notice document 2025-09417, appearing on pages 22227 through 22230 in the issue of Tuesday, May 27, 2025, make the following correction:

On page 22228, in the first column, in the SUMMARY section, in the ninth line, “161” should read “215”.

[FR Doc. C1-2025-09417 Filed 5-29-25; 8:45 am]

BILLING CODE 0099-10-D